ENVIRONMENTAL PROTECTION AGENCY

[ER-FRL-6655-5]

Environmental Impact Statements; Notice of Availability

Responsible Agency: Office of Federal Activities, General Information (202) 564-7167 or http://www.epa.gov/compliance/nepa/.

Weekly receipt of Environmental Impact Statements filed August 30, 2004 through September 3, 2004 Pursuant to 40 CFR 1506.9.

EIS No. 040415, FINAL EIS, COE, AK, Akutan Harbor Navigation Improvements Project, Construction and Implementation, Bering Sea, City of City of Akutan, AK. Wait Period Ends: October 12, 2004. Contact: Wayne M. Crayton (907) 753-2672.

EIS No. 040416, FINAL EIS, NPS, CA, Point Reyes National Seashore (PRNS) and the North District of Golden Gate National Recreation Area (GGNRA) Fire Management Plan, Implementation, Marin County, CA. Wait Period Ends: October 12, 2004.

Contact: Roger Wong (415) 464-5100.

EIS No. 040417, FINAL EIS, FHW, MO, U.S. 40/61 Bridge Location Study Over the Missouri River, Improvement of the Transportation System, Section 9 of the Rivers and Harbor Act Permit, and U.S. Army COE Section 10 and 404 Permits, Missouri River, St. Charles and St. Louis Counties, MO. Wait Period Ends: October 12, 2004. Contact: Donald Neumann (573) 636-7104.

EIS No. 040418, FINAL EIS, COE, FL, Programmatic EIS—Florida Keys Water Quality Improvements Program, To Implement Wastewater and Stormwater Improvements, South Florida Water Management District, Monroe County, FL. Wait Period Ends: October 12, 2004. Contact: Dennis Barnett (404) 562-5225.

EIS No. 040419, DRAFT SUPPLEMENT, GSA, TX, Del Rio Port of Entry (POE), Increased Security Measures Associated with Phase II Expansion, Supplement to the 1992 Del Rio Border Patrol Station, Del Rio, Val Verde County, TX. Comment Period Ends: October 25, 2004. Contact: Rae Lynn Schneider (972) 423-5480.

EIS No. 040420, FINAL EIS, COE, FL, Miami Harbor Navigation Improvements Project to Study the Feasibility of Widening and Deepening Portions of the Port, Miami-Dade County, FL. Wait Period Ends: October 12, 2004. Contact: Ms. Term Jordan (904) 232-2117.

EIS No. 040421, FINAL EIS, NPS, MD, VA, PA, DC, Chesapeake Bay Special Resource Study (NRS), To Conserve and Restore Chesapeake Bay, New Unit of the National Park System, MD, VA, PA and DC. Wait Period Ends: October 12, 2004. Contact: Jonathan Diehard (410) 267-5725.

This document is available on the Internet at: http://www.chesapeakestudy.org.

EIS No. 040422, DRAFT EIS, AFS, NM, San Diego Range Allotment Project, Proposes to Revise Grazing Program, Santa Fe National Forest, Jerez Ranger District, Township 17-19 North, Range 1-3 East, Sandoval County, NM. Comment Period Ends: October 25, 2004. Contact: Rita Skinner (505) 829-3535.

EIS No. 040423, FINAL EIS, AFS, CA, Meteor Project, Proposal for Harvesting Timber and Conducting Associated Activities on 744 Acres, Implementation, Klamath National Forest, Salmon River Ranger District, Siskiyou County, CA. Wait Period Ends: October 12, 2004. Contact: Margaret J. Boland (530) 841-4501.

EIS No. 040424, DRAFT EIS, FRA, CA, Los Angeles Union Station Run-Through Tracks Project, To Improve Pedestrain Access, Connectivity and Increase the Capacity, City Los Angeles, Los Angeles County, CA. Comment Period Ends: October 25, 2004. Contact: David Valenstein (202) 493-6368.

EIS No. 040425, DRAFT EIS, FHW, UT, U.S. 6 Highway Project, Improvements from Interstate 15 (I-15) in Spanish Fork to Instate 70 (I-70) near Green River, Funding, Right-of-Way Permit and U.S. Army COE Section 404 Permit, Utah, Wasatch, Carbon and Emery Counties, UT. Comment Period Ends: October 29, 2004. Contact: Jeff Berna (801) 963-0182.

EIS No. 040426, DRAFT EIS, NRC, AR, Generic—License Renewal of Nuclear Plants, Arkansas Nuclear One, Unit 2 (Tac. Nos. MB 8405) Supplement 19 to NUREG-1437, Operating License Renewal, Pope County, AR. Comment Period Ends: November 24, 2004. Contact: Thomas Kenyon (301) 415-1120.

EIS No. 040427, DRAFT EIS, BLM, NV, Las Vegas Valley Disposal Boundary Project, Disposal and Use of Public Land under the Management of (BLM), Implementation, Clark County, NV. Comment Period Ends: November 9, 2004. Contact: Jeff Steinmetz (702) 515-5097.

EIS No. 040428, DRAFT EIS, BLM, Programmatic—Wind Energy Development Program, To Address Stewardship, Conservation and Resource Use on BLM-Administered Lands, Right-of-Way Grants, Western United States. Comment Period Ends: December 9, 2004. Contact: Lee Otteni (505) 599-8911.

EIS No. 040429, FINAL EIS, NOA, FL, Programmatic EIS—Seagrass Restoration in the Florida Keys National Marine Sanctuary, Implementation, U.S. Army COE Section 404 and CZMA Permits, Monroe County, FL. Wait Period Ends: October 12, 2004. Contact: Harriet Sopher (301) 713-3125.

EIS No. 040430, FINAL EIS, AFS, WY, Wyoming Range Allotment Complex, To Determine Whether or not to Allow Domestic Sheep Grazing, Bridger-Teton National Forest, Big Piney, Greys River and Jackson Ranger Districts, Sublette, Lincoln and Teton Counties, WY. Wait Period Ends: October 12, 2004. Contact: Greg Clark (307) 276-3375.

Amended Notices

EIS No. 040261, DRAFT EIS, BLM, CO, Northern San Juan Basin Coal Bed Methane Project, Proposed to Drill Approximately 300 Well to Produce Natural Gas from Coal Beds on Federal, State and Private Owned Lands, Special-Use-Permit, Application for Permit to Drill and U.S. Army COE Section 404 Permit, LaPlata and Archulea Counties, CO. Comment Period Ends: November 30, 2004. Contact: Walt Brown (970) 385-1372. Revision of FR Notice published on 6/11/04: CEQ comment period ending 9/13/2004 has been extended to 11/30/2004.

Dated: September 7, 2004.
Robert W. Hargrove,
Division Director, NEPA Compliance Division, Office of Federal Activities.

[FR Doc. 04-20508 Filed 9-9-04; 8:45 am]

BILLING CODE 6560-50-P